DEPARTMENT OF TRANSPORTATION

Federal Highway Administration

Environmental Impact Statement: Colfax and Dodge Counties, NE

AGENCY: Federal Highway Administration (FHWA), DOT.

ACTION: Notice of intent.

SUMMARY: The FHWA is issuing this notice to advise the public that an Environmental Impact Statement will be prepared for a proposed highway project in Colfax and Dodge Counties, Nebraska.

FOR FURTHER INFORMATION CONTACT: Mr. Edward Kosola, Realty/Environmental Officer, FHWA, Federal Building, Room 220, 100 Centennial Mall North, Lincoln, Nebraska 68508-3851, (402) 437-5765. Mr. Arthur Yonkey, Planning and Project Development Engineer, Nebraska Department of Roads, Box 94759, 1500 Highway 2, Lincoln, Nebraska 68509, (402) 479-4795.

SUPPLEMENTARY INFORMATION: The FHWA, in cooperation with the Nebraska Department of Roads, will prepare an Environmental Impact Statement (EIS) for a proposal to improve Highway US-30 in east-central Nebraska in Colfax and Dodge Counties. The proposed improvements to US-30 will provide a four-lane highway between Schuyler and Fremont, Nebraska, for a distance of about 30 miles. Existing US-30 is a two-lane rural highway generally serving east-west vehicle traffic. Alternatives under consideration include: (1) Taking no action; (2) reconstruction of US-30 on existing alignment; and (3) providing a four-lane highway on new alignment.

A conflict resolution effort has been initiated to help resolve issues surrounding potential roadway alignments. An Advisory Panel made up of stakeholders has been formed to advise the decision-making authorities. Local citizen input is provided for through contact with panel representatives, or agency contacts.

Agency scoping and a public scoping/information meetings were held previously during preparation of an Environmental Assessment (EA) for this project. A Draft EIS will be prepared and a public hearing will be held. Public notice will be given for any additional information meetings and the public hearing.

To ensure that the full range of issues related to this proposed action are addressed and all significant issues identified, comments and suggestions are invited from all interested parties. Comments or questions concerning this proposed action and the EIS should be directed to the FHWA or the Nebraska Department of Roads at the address provided.

(Catalog of Federal Domestic Assistance Project Number 20.205, Highway Planning and Construction. The regulations implementing Executive Order 12372 regarding intergovernmental consultation on Federal programs and activities apply to this program.)

Dated: August 26, 2005.
Edward W. Kosola,
Realty/Environmental Officer, Nebraska Division, Federal Highway Administration, Lincoln, Nebraska.

[FR Doc. 05-17527 Filed 9-1-05; 8:45 am]

BILLING CODE 4910-22-M